DEPARTMENT OF THE INTERIOR

[FWS-R4-ES-2017-N156; FVHC98220410150-XXX-FF04G01000]

Notice of Availability; Florida Trustee Implementation Group Deepwater Horizon Oil Spill Draft Phase V.2 Restoration Plan and Supplemental Environmental Assessment; Florida Coastal Access Project

AGENCY: Interior.

ACTION: Notice of availability; request for comments.

SUMMARY: In accordance with the Oil Pollution Act of 1990, the National Environmental Policy Act, the Deepwater Horizon Oil Spill Final Programmatic Damage Assessment and Restoration Plan and Final Programmatic Environmental Impact Statement (Final PDARP/PEIS), and the resulting Consent Decree, the Federal and State natural resource trustee agencies for the Florida Trustee Implementation Group (Florida TIG) have prepared a Draft Phase V.2 Restoration Plan and Supplemental Environmental Assessment (Draft Phase V.2 RP/SEA). The Draft Phase V.2 RP/SEA supplements the 2016 Final Phase V Early Restoration Plan and Environmental Assessment (Final Phase V ERP/EA) and describes and proposes the second phase of the Florida Coastal Access Project intended to continue the process of restoring natural resources and services injured or lost as a result of the Deepwater Horizon oil spill, which occurred on or about April 20, 2010, in the Gulf of Mexico.

DATES: The Florida TIG will consider public comments received on or before December 8, 2017.

Public Meeting: The Florida TIG has scheduled a public meeting to facilitate public review and comment on the Draft Phase V.2 RP/SEA. Both written and verbal comments will be taken at the public meeting. The Florida TIG will hold an open house followed by a public meeting. The public meeting will include a presentation of the Draft Phase V.2 RP/SEA. The public meeting schedule is as follows:

Date | Time | Location
November 16, 2017 | 5:30 to 6:30 p.m.: Open house—6:30 to 8:00 p.m.: Public meeting (presentations and discussion) | Robert M. Moore Administration Building, 1000 Cecil G. Costin Sr. Blvd., Port St. Joe, FL 32456.

ADDRESSES: Obtaining Documents: You may download the Draft Phase V.2 RP/SEA at any of the following sites:

• http://www.gulfspillrestoration.noaa.gov.

• http://www.doi.gov/deepwaterhorizon.

• http://dep.state.fl.us/deepwaterhorizon/default.htm.

Alternatively, you may request a CD of the Draft Phase V.2 RP/SEA (see FOR FURTHER INFORMATION CONTACT). You may also view the document at any of the public facilities listed at http://www.gulfspillrestoration.noaa.gov.

Submitting Comments: You may submit comments on the Draft Phase V.2 RP/SEA by one of following methods:

• Via the Web: http://www.gulfspillrestoration.noaa.gov.

• Via U.S. Mail: U.S. Fish and Wildlife Service, P.O. Box 49567, Atlanta, GA 30345.

In order to be considered, mailed comments must be postmarked on or before the comment deadline given in the DATES section of this notice.

• In Person: Written and oral comments may be submitted at the public meeting on November 16, 2017 (see Public Availability of Comments below).

FOR FURTHER INFORMATION CONTACT: Nanciann Regalado, at 404-679-4161, or email nanciann_regalado@fws.gov.

SUPPLEMENTARY INFORMATION:

Introduction

On or about April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under OPA. Pursuant to OPA (OPA; 33 U.S.C. 2701 et seq.), Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

Upon completion of the NRDA, the Trustees reached and finalized a settlement of their natural resource damage claims with BP in an April 4, 2016, Consent Decree approved by the United States District Court for the Eastern District of Louisiana. Pursuant to that Consent Decree, restoration projects in the Florida Restoration Area are now chosen and managed by the Florida TIG. The Florida TIG is composed of the following six Trustees: State of Florida Department of Environmental Protection and Fish and Wildlife Conservation Commission; DOI; NOAA; EPA; and USDA.

Background

In the 2011 Framework Agreement for Early Restoration Addressing Injuries Resulting from the Deepwater Horizon Oil Spill (Framework Agreement), BP agreed to provide to the Trustees up to $1 billion toward early restoration projects in the Gulf of Mexico to address injuries to natural resources caused by the Deepwater Horizon oil spill. The Framework Agreement represented a preliminary step toward the restoration of injured natural resources and was intended to expedite the start of restoration in the Gulf in advance of the completion of the injury assessment process. Early restoration was not intended to and did not fully address all injuries caused by the Deepwater Horizon oil spill.

In the five phases of the early restoration process, the Trustees selected, and BP agreed to fund, a total of 65 early restoration projects expected to cost a total of approximately $877 million. The Trustees selected these projects after public notice, public meetings, and consideration of public comments, through the Phase I Early Restoration Plan/Environmental Assessment (Phase I ERP/EA), Phase II Early Restoration Plan/Environmental Review (Phase II ERP/ER), Phase III ERP/PEIS, Phase IV Early Restoration Plan/Environment Assessments (Phase IV ERP/EA), and Phase V ERP/EA. These plans are available at: http://www.doi.gov/deepwaterhorizon.

The April 4, 2016, Consent Decree terminated and replaced the Framework Agreement and provided that the Trustees shall use remaining early restoration funds as specified in the early restoration plans and in accordance with the Consent Decree. The Trustees have determined that decisions concerning any unexpended early restoration funds are to be made by the appropriate Trustee Implementation Group for that project.

Overview of the Draft Phase V.2 RP/SEA

In the Final Phase V ERP/EA, the Deepwater Horizon State and Federal natural resource trustees (Trustees) evaluated and selected the first phase of the Florida Coastal Access Project. The Final Phase V ERP/EA provided that the Florida Coastal Access Project would proceed in phases, and that these future phases would consist of similar restoration activities to be identified and selected by the Trustees in the same manner and using the same criteria as described in the Final Phase V ERP/EA, in accordance with OPA, NEPA, and other applicable laws, and after public review of the proposed activities.

The proposed second phase of the Florida Coastal Access Project is consistent with the early restoration program alternatives selected in the Final Phase III Early Restoration Plan/Programmatic Environmental Impact Statement (Final Phase III ERP/PEIS) and the Final PDARP/PEIS. The purpose of this notice is to inform the public of the availability of the Draft Phase V.2 RP/SEA and to seek public comments on the proposed second phase of the Florida Coastal Access Project and supporting analysis.

The Draft Phase V.2 RP/SEA is being released in accordance with OPA, NRDA regulations found in the Code of Federal Regulations (CFR) at 15 CFR part 990, NEPA, the Consent Decree, the Final PDARP/PEIS, the Phase III ERP/PEIS and the Phase V ERP/EA.

The Florida TIG is considering the second phase of the Florida Coastal Access Project in the Draft Phase V.2 RP/SEA to address lost recreational opportunities in Florida caused by the Deepwater Horizon oil spill. In the Draft Phase V.2 RP/SEA, the Florida TIG proposes one preferred alternative, the Salinas Park Addition, which involves the acquisition and enhancement of a 6.6-acre coastal parcel. The Florida Coastal Access Project was allocated approximately $45.4 million in early restoration funds, and the Salinas Park Addition would cost approximately $3.1 million of the $6.4 million remaining funds not utilized in the first phase of the Florida Coastal Access Project. The Florida TIG also considered two additional land acquisition and improvement alternatives, as well as the no action alternative in the Draft Phase V.2 RP/SEA. One or more alternatives may be selected for implementation by the Florida TIG in the Final Phase V.2 RP/SEA or in future restoration plans. Details on the proposed second phase of the Florida Coastal Access Project are provided in the Draft Phase V.2 RP/SEA.

The proposed second phase of the Florida Coastal Access Project is intended to continue the process of using restoration funding to restore natural resources, ecological services, and recreational use services injured or lost as a result of the Deepwater Horizon oil spill. Additional restoration planning for the Florida Restoration Area will continue.

Next Steps

As described above, a public meeting is scheduled to facilitate the public review and comment process on the Draft Phase V.2 RP/SEA. After the public comment period ends, the Florida TIG will consider and address the comments received before issuing a final Phase V.2 RP/SEA.

Public Availability of Comments

Before including your address, phone number, email address, or other personal identifying information in your comment, you should be aware that your entire comment—including your personal identifying information—may be made publicly available at any time. While you can ask us in your comment to withhold your personal identifying information from public review, we cannot guarantee that we will be able to do so.

Administrative Record

The documents comprising the Administrative Record for the Draft Phase V.2 RP/SEA can be viewed electronically at http://www.doi.gov/deepwaterhorizon/administrativerecord.

Authority

The authority of this action is the Oil Pollution Act of 1990 (33 U.S.C. 2701 et seq.) and its implementing Natural Resource Damage Assessment regulations found at 15 CFR part 990 and the National Environmental Policy Act of 1969 (42 U.S.C. 4321 et seq.).

Kevin D. Reynolds,
Designated Department of the Interior Natural Resource Trustee Official.

[FR Doc. 2017-24197 Filed 11-7-17; 8:45 am]

BILLING CODE 4333-15-P